DEPARTMENT OF THE INTERIOR

National Park Service

[NPS-WASO-NRNHL-15438; PPWOCRADI0, PCU00RP14.R50000]

National Register of Historic Places; Notification of Pending Nominations and Related Actions

Nominations for the following properties being considered for listing or related actions in the National Register were received by the National Park Service before March 29, 2014. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by May 2, 2014. Before including your address, phone number, email address, or other personal identifying information in your comment, you should be aware that your entire comment—including your personal identifying information—may be made publicly available at any time. While you can ask us in your comment to withhold your personal identifying information from public review, we cannot guarantee that we will be able to do so.

Dated: March 31, 2014.
J. Paul Loether,
Chief, National Register of Historic Places/National Historic Landmarks Program.

DISTRICT OF COLUMBIA

District of Columbia

Metropolitan Apartments, (Apartment Buildings in Washington, DC, MPS) 200-210 Rhode Island Ave. NE., Washington, 14000199

Spingarn Senior High School, (Public School Buildings of Washington, DC MPS) 2500 Benning Rd. NE., Washington, 14000198

NEBRASKA

Douglas County

Reagan, John E., House, 2102 Pinkney St., Omaha, 14000201

NEW JERSEY

Cape May County

Goshen School, 314 N. Delsea Dr. (Middle Township), Goshen, 14000202

Middlesex County

Short Hills Battlefield Historic District, 1729 & 1591 Woodland Ave., Edison Township, 14000203

Warren County

Hixson—Mixsell House, 157 Cty. Rd. 519 (Pohatcong Township), Springtown, 14000204

NEW YORK

Columbia County

Burroughs—Foland Farm, 2323 NY 9, Livingston, 14000205

Warren County

Woodward Hall, 1312 Lake Ave., Lake Luzerne, 14000206

Westchester County

Manor Club, 1023 Esplanade, Pelham Manor, 14000207

SOUTH CAROLINA

Spartanburg County

Schuyler Apartments, 275 S. Church St., Spartanburg, 14000208

[FR Doc. 2014-08700 Filed 4-16-14; 8:45 am]

BILLING CODE 4312-51-P